DEPARTMENT OF STATE

[Public Notice: 11375]

30-Day Notice of Proposed Information Collection: Refugee Biographic Data

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to April 16, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Delicia Spruell, PRM/Admissions, 2025 E Street NW, SA-9, 8th Floor, Washington, DC 20522-0908, who may be reached on (202) 453-9257 or (202) 568-2964 or at SpruellDA@state.gov.

SUPPLEMENTARY INFORMATION:

• Title of Information Collection: Refugee Biographic Data.

• OMB Control Number: 1405-0102.

• Type of Request: Revision of a Currently Approved Collection.

• Originating Office: Bureau of Population, Refugees, and Migration, Office of Admissions, PRM/A.

• Form Number: No form.

• Respondents: Refugee applicants for the U.S. Refugee Admissions Program.

• Estimated Number of Respondents: 15,000.

• Estimated Number of Responses: 10,124.

• Average Time per Response: 3 hours.

• Total Estimated Burden Time: 30,372.

• Frequency: Once per respondent.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Refugee Biographic Data Sheet includes a refugee applicant's personal information and is needed to initiate refugee resettlement processing, adjudicate the refugee applicant's application for admission to the United States, to run security checks on refugee applicants by law enforcement and intelligence communities, to conduct medical screenings, and to plan international travel before a refugee applicant can be approved to travel to the United States. In addition, the information is used to match the refugee with a sponsoring voluntary agency for initial reception and placement in the U.S. under the United States Refugee Admissions Program administered by the Bureau of Population, Refugees, and Migration (PRM).

The information collected includes date and place of birth, gender, contact information, including social media handles, marital status, family ties, religion, ethnic group, background, education, occupation, skills, medical information, English language ability, associated family members' refugee resettlement cases, and identity documents. The data is used to initiate refugee resettlement processing, to adjudicate the refugee claim by USCIS, to run security checks on refugees by law enforcement and intelligence communities before refugees can be approved to travel to the United States. Data is also provided to conduct a medical screening before the refugee's arrival in the United States, to plan the refugee's international travel, and to resettlement agencies to determine an appropriate resettlement location in the United States. If the data were not collected, refugees could not be properly vetted by law enforcement and intelligence communities, and therefore refugee applicants could no longer be processed through the U.S. Refugee Admissions Program. In addition, the resettlement agencies would not be able to provide appropriate initial reception and placement services as provided for in the Refugee Act.

Methodology

Biographic information is collected in a face-to-face intake process with the applicant overseas. An employee of a Resettlement Support Center, under cooperative agreement with PRM, collects the information and enters it into the Worldwide Refugee Admissions Processing System. The Department is also building a new case management system to replace WRAPS to allow for more effective and efficient electronic management of refugee resettlement cases. This system, called START, will perform the same overall functions as the WRAPS system. The Department began deployment of START in late 2020 and expects full deployment to all locations worldwide by late 2021. The Department has designed this data collection to make most efficient use of digital data capture. While this does not represent a complete end-to-end electronic process, it equates to paperwork reduction by incorporation of the electronic entry of intake responses.

Lawrence E. Bartlett,
Director, Office of Admissions, Bureau of Population, Refugees, and Migration, Department of State.

[FR Doc. 2021-05479 Filed 3-16-21; 8:45 am]

BILLING CODE 4710-33-P